DEPARTMENT OF ENERGY

Federal Energy Regulatory Commission

[Docket No. EL12-22-000]

Zephyr Power Transmission, LLC; Pathfinder Power Transmission, LLC; Duke-American Transmission Company, LLC; Notice of Petition for Declaratory Order

Take notice that on January 30, 2012, pursuant to the Rules of Practice and Procedure of the Federal Energy Regulatory Commission (Commission), 18 CFR 381.302, Zephyr Power Transmission, LLC (Zephyr), Pathfinder Power Transmission, LLC (PPT), and Duke-American Transmission Company, LLC (D-ATC) filed a Petition for Declaratory Order, requesting that the Commission grant its request: (1) For Declaratory Order confirming Zephyr's right to continue to exercise its negotiated rate authority for Zephyr Power Transmission Project; (2) that Pathfinder Renewable Wind Energy, LLC (PWE) and Zephyr may enter into the New Precedent Agreement as an anchor customer agreement pursuant to an amendment to Zephyr's negotiated rate authority; (3) in the alternative, that PWE can continue to exercise its rights as a successful bidder under the open season process held by Zephyr in 2009 and pursuant to the New Precedent Agreement; and (4) for waivers of certain of the Commission's regulations.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5 p.m. Eastern Time on February 21, 2012.

Dated: February 2, 2012.
Kimberly D. Bose,
Secretary.

[FR Doc. 2012-2857 Filed 2-7-12; 8:45 am]

BILLING CODE 6717-01-P